DEPARTMENT OF EDUCATION

Notice of Proposed Information Collection Requests

AGENCY: Department of Education.

SUMMARY: The IC Clearance Official, Regulatory Information Management Services, Office of Management, invites comments on the proposed information collection requests as required by the Paperwork Reduction Act of 1995.

DATES: Interested persons are invited to submit comments on or before July 10, 2007.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: May 8, 2007.
Angela C. Arrington,
IC Clearance Official, Regulatory Information Management Services, Office of Management.

Office of Planning, Evaluation, and Policy Development

Type of Review: Revision.

Title: Annual Mandatory Collection of Elementary and Secondary Education Data for EDFacts.

Frequency: Annually.

Affected Public: State, Local, or Tribal Gov't, SEAs or LEAs.

Reporting and Recordkeeping Hour Burden:

Responses: 59.

Burden Hours: 105,754.

Abstract: EDFacts is in the implementation phase of a multiple year effort to consolidate the collection of education information about States, Districts, and Schools in a way that improves data quality and reduces paperwork burden for all of the national education partners. To minimize the burden on the data providers, EDEN seeks the transfer of the proposed data as soon as it has been processed for State, District, and School use. These data will then be stored in EDFacts and accessed by federal education program managers and analysts as needed to make program management decisions. This process will eliminate redundant data collections while providing for the timeliness of data submission and use.

Additional Information: The Department of Education (ED) is specifically requesting the data providers in each the State Education Agency (SEA) to review the proposed data elements to determine which of these data can be provided for the upcoming school year and which data would be available in later years and which data, if any, is never expected to be available from the SEA. If information for a data group is not available, please provide information beyond the fact that it is not available. Are there specific impediments to providing this data that you can describe? Is the definition for the data group unclear or ambiguous? Do the requested permitted values align with the way your state collects the data? This is very important information because ED intends to make the collection of these data mandatory. ED also seeks to know if the SEA data definitions are consistent and compatible with the EDEN definitions and accurately reflect the way data is stored and used for education by the States, Districts, and Schools. The answers to these questions by the data providers will influence the timing and content of the final EDEN proposal for the collection of this elementary and secondary data.

Additional Information for State Data Providers: In addition to overall public comments, ED would also like state education data providers to respond to a number of specific questions that were developed during the recent data definition cycle.

(1) Data Groups—An underlying purpose of the EDFacts Data Set is to inventory the data collected by ED. That inventory is organized into data groups and categories. In general, each table data group is its own file. Three data groups (Title I SWP/TAS Participation Tables ID 548, N or D Academic Outcomes Table (LEAs) ID 629, and N or D Academic Outcomes Table (State agencies) ID 628) were split so that the data groups would meet the definition of “a specific aggregation (i.e. group) of related data that is stored in EDFacts to satisfy the specific information need of one or more ED program office.” Are there any other data groups that should be split? Are there any data groups that should be combined?

(2) Categories—Data on students is collected by categories (characterizations used to aggregate data e.g. race/ethnicity, sex, grade level). In some cases, the data by these characterizations isn't required on all students. For example, data on the results of NCLB assessments is required to be aggregated by students with a disability status (IDEA) and by students who have been assessed as limited English proficient. Data is not required by statute to be aggregated by either students without a disability status (IDEA) or students who have not been assessed as limited English proficient. However, that data is useful to the Department for both data quality and analysis. There are times when data is required to be aggregated for all students. For example, data on the provision of educational services during expulsion is required by statute to be aggregated for both students with a disability status (IDEA) and without a disability status (IDEA). What is the burden for the SEA when aggregating data for only those students with the characteristics in comparison to aggregating for both students with the characteristic and without it for the following characteristics: Disability status (IDEA), assessed for limited English proficiency, homeless status, homeless served under McKinney-Vento status, economically disadvantaged status, and migrant status?

(3) Status Files—The status files contain the non-table data groups. The non-table data groups included in the NCLB Start of School Year File (N/X101) are:

• District Totals, ID # 460

• Improvement Status—LEA, ID #662

• Improvement Status—School, ID #34

• Integrated Technology Status, ID #524

• Persistently Dangerous Status, ID #36

• School Poverty Percentage, ID #31

• School Totals, ID #454

• Shared Time Status, ID #573

• Title I School Status, ID #22

• Magnet Status, ID #665

• Classroom Teachers (FTE), ID #644

The non-table data groups included in the NCLB End of School Year File (N/X102) are:

• Economically Disadvantaged Students, ID #56

• Combined MEP Funds Status Table, ID #514

• GFSA Reporting Status, ID #603

• REAP Alternative Funding Indicator, ID #614

• Average Daily Attendance, ID #595

• Supplemental Services—Applied to Receive Services, ID #575

• Supplemental Services—Eligible to Receive Services, ID #578

• Supplemental Services—Received Services, ID #546

• Supplemental Services—Funds Spent, ID #651

• School Choice—Funds Spent, ID #652

• Truants, ID #664

• MEP Students Eligible Regular School Year, ID #110

Are these status files properly organized to ensure the timely submission of data and reduce burden? If not, how should the non-table data groups be organized?

(4) Migrant Education Program—The EDFacts data set did not completely align with the collection of data for the Migrant Education Program (MEP), Title I, Part C through the Consolidated State Performance Report (CSPR) and Migrant Child Count Form. The data groups collecting data on the MEP Program have been revised accordingly. The chart below displays the relationship among the data groups for students.

Type of MEP student | Type of MEP count: 12-month | Type of MEP count: Regular school year | Type of MEP count: Summer/ intersession
Eligible | 634 (SEA) | 110 (school) |
Served (no Schoolwide) |  | 636 (SEA) | 637 (SEA)
Eligible and Served |  |  | 635 (SEA)

Are the revised definitions and comments sufficient to describe the data that should be collected?

(5) School Operational Status—The data group School Operational Status (ID 531) has the following permitted values: Open, closed, new, added, changed agency, inactive, future school, reopened. Is a new permitted value needed for restructured under NCLB? Do SEAs create new schools when a school is restructured under NCLB? Are new state school identification numbers assigned when a school is restructured under NCLB? Do schools that are restructured under NCLB met the definition of open which is “no significant change in instructional levels and programs?”

(6) GEPA—As discussed in Attachment B-4, the General Education Provisions Act (GEPA), Section 424 mandates reporting on the distribution of federal education funds to school districts and other entities, such as libraries, colleges and universities, state agencies, individual schools and private recipients. In the past, the data for the GEPA report has been collected through a separate collection. For the GEPA report on FYs 2006 and 2007, the data will be obtained for state administered grants to LEAs through EDFacts. How will this change impact SEAs? What must ED do to make this transition successful? How should ED collect data on state administered grants that do not go to SEAs or LEAs?

(7) Reading NCLB State Assessments—EDFacts collects data on participation and results of NCLB state assessments. Data is collected on mathematics, reading, and science. The data on participation is collected in one file (N/X081) using permitted values to differentiate between the academic subjects. The data on the results of NCLB state assessments is collected in separate files. For mathematics and science, the participation file has one permitted value for each and both have one file to collect the results of state assessments. For reading, the participation file has three permitted values and the results of state assessments are collected using three files. The three values and files are entitled reading, reading/language arts, and language arts. Can the reading participation and results of state assessments be collected using only one permitted value (reading) and one file (reading)?

Requests for copies of the proposed information collection request may be accessed from http://edicsweb.ed.gov, by selecting the “Browse Pending Collections” link and by clicking on link number 3334. When you access the information collection, click on “Download Attachments” to view. Written requests for information should be addressed to U.S. Department of Education, 400 Maryland Avenue, SW., Potomac Center, 9th Floor, Washington, DC 20202-4700. Requests may also be electronically mailed to ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 07-2354 Filed 5-10-07; 8:45 am]

BILLING CODE 4001-01-P